DEPARTMENT OF TRANSPORTATION

Surface Transportation Board

[STB Finance Docket No. 33879]

Union Pacific Railroad Company—Trackage Rights Exemption—The Burlington Northern and Santa Fe Railway Company

The Burlington Northern and Santa Fe Railway Company (BNSF) has agreed to grant overhead trackage rights to Union Pacific Railroad Company (UP) over BNSF's rail line between BNSF milepost 117.4 near Shawnee Junction, WY, and BNSF milepost 0.0 near Northport, NE, a distance of 143.1 miles.¹

¹ On June 6, 2000, UP filed a petition for exemption in STB Finance Docket No. 33879 (Sub-No. 1), Union Pacific Railroad Company—Trackage Rights Exemption—The Burlington Northern and Santa Fe Railway Company, wherein UP requests that the Board permit the proposed overhead trackage rights arrangement described in the present proceeding to expire on June 25, 2000. That petition will be addressed by the Board in a separate decision.

The transaction was scheduled to be consummated on, or as soon as possible after, June 10, 2000.

The purpose of the trackage rights is to permit UP to use the BNSF trackage when UP's trackage is out of service for scheduled maintenance.

As a condition to this exemption, any employees affected by the trackage rights will be protected by the conditions imposed in Norfolk and Western Ry. Co.—Trackage Rights—BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33879, must be filed with the Surface Transportation Board, Office of the Secretary, Case Control Unit, 1925 K Street, NW., Washington, DC 20423-0001. In addition, one copy of each pleading must be served on Robert T. Opal, 1416 Dodge Street, Room 830, Omaha, NE 68179.

Board decisions and notices are available on our website at “WWW.STB.DOT.GOV.”

Decided: June 8, 2000.
By the Board, David M. Konschnik, Director, Office of Proceedings.
Vernon A. Williams,
Secretary.

[FR Doc. 00-15048 Filed 6-13-00; 8:45 am]

BILLING CODE 4915-00-P